ENVIRONMENTAL PROTECTION AGENCY

[FRL-8786-9]

Science Advisory Board Staff Office, Notification of an Upcoming Meeting of the Science Advisory Board Homeland Security Advisory Committee (HSAC)

AGENCY: Environmental Protection Agency (EPA).

ACTION: Notice.

SUMMARY: The Environmental Protection Agency (EPA or Agency) Science Advisory Board (SAB) Staff Office announces a public face-to-face meeting of the SAB Homeland Security Advisory Committee (HSAC). HSAC has been augmented with additional members to provide consultative comment on a draft Environmental Response Technical Assistance Document for Bacillus anthracis Intentional Releases (BA-TAD).

DATES: The meeting will be held on April 21, 2009 from 8:30 a.m. to 5 p.m. (Eastern Daylight Time) and April 22, 2009 from 8:30 a.m. to 12 p.m. (Eastern Daylight Time).

ADDRESSES: The Committee meeting will be held at the SAB Conference Center, located at 1025 F Street, NW., Room 3705, Washington, DC 20004.

FOR FURTHER INFORMATION CONTACT: Members of the public who wish to obtain additional information regarding this meeting may contact Mr. Edward Hanlon, Designated Federal Officer (DFO), EPA Science Advisory Board (1400F), U.S. Environmental Protection Agency, 1200 Pennsylvania Avenue, NW.,Washington, DC 20460; telephone/voice mail: (202) 343-9946; fax (202) 233-0643; or via e-mail at hanlon.edward@epa.gov. General information about the EPA SAB, as well as any updates concerning the meeting announced in this notice, may be found on the SAB Web site at http://www.epa.gov/sab. Any inquiry regarding EPA's BA-TAD should be directed to Captain Colleen Petullo, U.S. Public Health Service, on detail to EPA's Office of Solid Waste and Emergency Response (OSWER), at petullo.colleen@epa.gov or (702) 784-8004.

SUPPLEMENTARY INFORMATION: Pursuant to the Federal Advisory Committee Act, Public Law 92-463, notice is hereby given that the Augmented SAB HSAC will hold a public face-to-face meeting to discuss their comments on the draft BA-TAD. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies. The SAB HSAC provides scientific and technical advice to the EPA Administrator through the chartered SAB on scientific matters pertaining to EPA's mission in protecting against the environmental and health consequences of terrorism.

Background: In response to the 2001 Bacillus anthracis incidents in Washington, the Weapons of Mass Destruction (WMD) Subcommittee of the Science and Technology (S&T) Committee of the EPA-chaired National Response Team (NRT) developed an interim-final draft Technical Assistance Document (TAD) in 2003 for responses to an actual or suspected terrorist release of Bacillus anthracis. In July 2005, the NRT slightly revised the interim-final draft TAD. EPA, as chair, works closely with seventeen other Federal agencies on the NRT. The NRT is developing the BA-TAD by revising and updating the 2005 interim-final draft TAD, and requested that OSWER seek consultative advice from the SAB HSAC on their development of the BA-TAD. The Augmented HSAC will conduct the consultation. The primary purpose of this upcoming meeting is for the Augmented HSAC to provide advice on whether the technical plans to prepare the BA-TAD are properly directed, and if there are any items, issues or practical applications that have not been considered that ought to be included.

The SAB HSAC held a teleconference on October 15, 2008 and was briefed by the EPA and its partners on its progress in developing the draft BA-TAD. A Federal Register Notice dated September 29, 2008 (73 FR 56578-56579) announced this teleconference and provided background information on this advisory activity. Information on the process of augmenting the expertise on the SAB HSAC was provided in a Federal Register Notice dated March 28, 2008 (73 FR 16679-16680). Additional information about this consultative activity including a meeting agenda will be posted on the SAB Web site prior to the meeting at http://www.epa.gov/sab.

Availability of Meeting Materials: The agenda and other meeting materials will be available on the SAB Web site at http://www.epa.gov/sab in advance of the meeting.

Procedures for Providing Public Input: Interested members of the public may submit relevant written or oral information for the SAB HSAC to consider during the advisory process. Oral Statements: In general, individuals or groups requesting an oral presentation at a public face-to-face meeting will be limited to three minutes per speaker, with no more than a total of one hour for all speakers. Each person making an oral statement should consider providing written comments as well as their oral statement so that the points presented orally can be expanded upon in writing. Interested parties should contact Edward Hanlon, DFO, in writing (preferably via e-mail) at the contact information noted above, by April 7, 2009 to be placed on the list of public speakers for the meeting. Written Statements: Written statements should be received in the SAB Staff Office by April 7, 2009 so that the information may be made available to the Committee members for their consideration. Written statements should be supplied to the DFO in the following formats: One hard copy with original signature, and one electronic copy via e-mail (acceptable file format: Adobe Acrobat PDF, WordPerfect, MS Word, MS PowerPoint, or Rich Text files in IBM-PC/Windows 98/2000/XP format). Submitters are requested to provide versions of each document submitted with and without signatures, because the SAB Staff Office does not publish documents with signatures on its Web sites.

Accessibility: For information on access or services for individuals with disabilities, please contact Edward Hanlon at the phone number or e-mail address noted above, preferably at least ten days prior to the public face-to-face meeting to give EPA as much time as possible to process your request.

Dated: March 18, 2009.
Anthony F. Maciorowski,
Deputy Director, EPA Science Advisory Board Staff Office.

[FR Doc. E9-6762 Filed 3-25-09; 8:45 am]

BILLING CODE